DEPARTMENT OF HEALTH AND HUMAN SERVICES

National Institutes of Health

Submission for OMB Review; 30-Day Comment Request; New Assessment of NHLBI's Global Health Initiative Collaborating Centers of Excellence

SUMMARY: Under the provisions of Section 3507(a)(1)(D) of the Paperwork Reduction Act of 1995, the National Institutes of Health (NIH) has submitted to the Office of Management and Budget (OMB) a request for review and approval of the information collection listed below. This proposed information collection was previously published in the Federal Register on 3/13/2015, document number 2015-05722, pages 13396-13397. One comment was received. The purpose of this notice is to allow an additional 30 days for public comment. The National Heart, Lung and Blood Institute (NHLBI), National Institutes of Health, may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

DATES: Comment Due Date: Comments regarding this information collection are best assured of having their full effect if received within 30-days of the date of this publication.

FOR FURTHER INFORMATION CONTACT: To obtain a copy of the data collection plans and instruments, submit comments in writing, or request more information on the proposed project, contact: Ms. Deshiree Belis, National Heart, Lung, and Blood Institute, National Institutes of Health, 6705 Rockledge Dr., Suite 6185A, Bethesda, MD 20892, or call non-toll-free number 301-435-1032, or Email your request, including your address to deshiree.belis@nih.gov. Formal requests for additional plans and instruments must be requested in writing.

Proposed Collection: New Assessment of NHLBI's Global Health Initiative Collaborating Centers of Excellence (NHLBI), 0925—New, National Heart, Lung, and Blood Institute (NHLBI), the National Institutes of Health (NIH).

Need and Use of Information Collection: This collection proposes to conduct a one-time outcome evaluation of the NHLBI Global Health Initiative Centers of Excellence (GHI COE) Program to examine the extent to which the program achieved its intended objectives in developing sustainable research and research training capacity, and advancing information about the prevention and treatment of chronic non-communicable chronic cardiovascular and pulmonary diseases (CVPD) in low- and middle-income country (LMIC) populations. The outcome evaluation will utilize a mixed-methods approach to comprehend each COE's processes, short term outcomes, and sustainability outcomes/efforts. Specifically, the evaluation will involve triangulating quantitative data sources (e.g., archived systematic reporting data), and qualitative data sources (e.g., archival data and key informant interview data). Data collected will be used to develop a Case Study report for each COE outlining their experience with implementing their program as well as a comprehensive cross-site Lessons Learned Report describing knowledge and experiences from the overall program, including similarities and differences across a variety of project settings and conditions. Findings from interviews will be incorporated into the Case Studies report and Lessons Learned report, which will be used by CTRIS to inform NHLBI and NIH stakeholders about structural issues relevant to planning both global and domestic biomedical research and training programs with diverse operational conditions and challenges. Additionally, COEs may utilize the Case Studies report as a marketing tool to attract additional funding and media coverage.

OMB approval is requested for 3 years. There are no costs to respondents other than their time. The total estimated annualized burden hours are 36.

Estimates of Hour Burden
Type of respondent | Number of respondents | Number of responses rer respondent | Average burden per response (in hours) | Total annualized burden (in hours)
Principal Investigators | 9 | 1 | 1 | 9
Training Directors | 9 | 1 | 1 | 9
Developed Country Partners | 9 | 1 | 1 | 9
Trainees | 9 | 1 | 1 | 9
Total | 36 |  |  |

Dated: July 20, 2015.
Valery Gheen,
NHLBI Project Clearance Liaison, National Institutes of Health.

[FR Doc. 2015-18750 Filed 7-30-15; 8:45 am]

BILLING CODE 4140-01-P